DEPARTMENT OF TRANSPORTATION

Federal Aviation Administration

14 CFR Parts 91 and 93

[Docket No. FAA-2002-13235; Amendment Nos. 91-278, 93-82]

RIN 2120-AH57

Special Air Traffic Rules; Flight Restrictions in the Vicinity of Niagara Falls; Correction

AGENCY: Federal Aviation Administration (FAA), DOT.

ACTION: Final rule; correction.

SUMMARY: This document makes a correction to the amendment numbers in the final rule published in the Federal Register on February 28, 2003. That action codified flight restrictions for aircraft operating in U.S. airspace in the vicinity of Niagara Falls, NY.

EFFECTIVE DATE: This correction is effective on February 11, 2004.

FOR FURTHER INFORMATION CONTACT: Terry Brown, telephone (202) 267-9193.

Correction

In final rule FR Doc. 03-4638, published on February 28, 2003 (68 FR 9792), make the following corrections:

1. On page 9792, in column 1, in the heading section, beginning on line 4, correct “Amendment Nos. 91-273 and 93-82” to read “Amendment Nos. 91-278 and, 93-82”.

Issued in Washington, DC on January 30, 2004.
Donald P. Byrne,
Assistant Chief Counsel for Regulations.

[FR Doc. 04-2880 Filed 2-10-04; 8:45 am]

BILLING CODE 4910-13-U